DEPARTMENT OF ENERGY

Federal Energy Regulatory Commission

Combined Notice of Filings # 1

Take notice that the Commission received the following Complaints and Compliance filings in EL Dockets:

Docket Numbers: EL24-61-000.

Applicants: Montana-Dakota Utilities Co. v. Midcontinent Independent System Operator, Inc. and Southwest Power Pool, Inc.

Description: Complaint of Montana-Dakota Utilities Co. v. Midcontinent Independent System Operator, Inc. and Southwest Power Pool, Inc.

Filed Date: 1/23/24.

Accession Number: 20240123-5146.

Comment Date: 5 p.m. ET 2/12/24.

Take notice that the Commission received the following electric rate filings:

Docket Numbers: ER16-2044-003.

Applicants: Elk Hills Power, LLC.

Description: Notice of Non-Material Change in Status of Elk Hills Power, LLC.

Filed Date: 1/24/24.

Accession Number: 20240124-5025.

Comment Date: 5 p.m. ET 2/14/24.

Docket Numbers: ER23-1335-002.

Applicants: Ameren Illinois Company.

Description: Compliance Filing of Ameren Illinois Company.

Filed Date: 1/16/24.

Accession Number: 20240116-5197.

Comment Date: 5 p.m. ET 2/6/24.

Docket Numbers: ER24-978-000.

Applicants: Midcontinent Independent System Operator, Inc.

Description: 205(d) Rate Filing: 2024-1-23_SA 4228 GRE-OTP-Discovery Wind GIA (S1036) to be effective 3/24/2024.

Filed Date: 1/23/24.

Accession Number: 20240123-5124.

Comment Date: 5 p.m. ET 2/13/24.

Docket Numbers: ER24-979-000.

Applicants: MFT Energy US 1 LLC.

Description: Tariff Amendment: Cancellation entire tariff to be effective 1/25/2024.

Filed Date: 1/24/24.

Accession Number: 20240124-5063.

Comment Date: 5 p.m. ET 2/14/24.

Docket Numbers: ER24-980-000.

Applicants: Alabama Power Company, Georgia Power Company, Mississippi Power Company.

Description: Tariff Amendment: Alabama Power Company submits tariff filing per 35.15: Swallowtail Solar LGIA Termination Filing to be effective 1/24/2024.

Filed Date: 1/24/24.

Accession Number: 20240124-5074.

Comment Date: 5 p.m. ET 2/14/24.

Docket Numbers: ER24-981-000.

Applicants: Black Hills Colorado Electric, LLC.

Description: 205(d) Rate Filing: Amended and Restated Standard LGIA with TC Colorado Solar, LLC to be effective 1/25/2024.

Filed Date: 1/24/24.

Accession Number: 20240124-5081.

Comment Date: 5 p.m. ET 2/14/24.

Docket Numbers: ER24-982-000.

Applicants: Arizona Public Service Company.

Description: 205(d) Rate Filing: Service Agreement No. 417, LGIA between APS, CAWCD, Maricopa Energy Center to be effective 1/9/2024.

Filed Date: 1/24/24.

Accession Number: 20240124-5086.

Comment Date: 5 p.m. ET 2/14/24.

Docket Numbers: ER24-983-000.

Applicants: Midcontinent Independent System Operator, Inc.

Description: 205(d) Rate Filing: 2024-01-24_SA 4071 Duke Energy-Lowland Solar Park 1st Rev GIA (J1390) to be effective 1/12/2024.

Filed Date: 1/24/24.

Accession Number: 20240124-5090.

Comment Date: 5 p.m. ET 2/14/24.

Docket Numbers: ER24-984-000.

Applicants: FirstEnergy Pennsylvania Electric Company, PJM Interconnection, L.L.C.

Description: 205(d) Rate Filing: FirstEnergy Pennsylvania Electric Company submits tariff filing per 35.13(a)(2)(iii: FE PA submits 4 amended IAs, SA Nos. 4335, 4436, 4345 and 6411 re: FE Reorg to be effective 1/1/2024.

Filed Date: 1/24/24.

Accession Number: 20240124-5119.

Comment Date: 5 p.m. ET 2/14/24.

Docket Numbers: ER24-985-000.

Applicants: FirstEnergy Pennsylvania Electric Company, Interconnection, L.L.C.

Description: 205(d) Rate Filing: FirstEnergy Pennsylvania Electric Company submits tariff filing per 35.13(a)(2)(iii: FE PA submits amended IAs, SA Nos. 4665 and 6412 re: FirstEnergy Reorganization to be effective 1/1/2024.

Filed Date: 1/24/24.

Accession Number: 20240124-5121.

Comment Date: 5 p.m. ET 2/14/24.

Take notice that the Commission received the following public utility holding company filings:

Docket Numbers: PH24-6-000.

Applicants: RPower Holdings, LLC.

Description: RPower Holdings, LLC submits FERC 65-B Notice of Change in Fact to Waiver Notification.

Filed Date: 1/23/24.

Accession Number: 20240123-5155.

Comment Date: 5 p.m. ET 2/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 24, 2024.
Debbie-Anne A. Reese,
Acting Secretary.

[FR Doc. 2024-01839 Filed 1-30-24; 8:45 am]

BILLING CODE 6717-01-P